DEPARTMENT OF TRANSPORTATION

National Highway Traffic Safety Administration

[Docket No. NHTSA 2002-11472, Notice 1]

Krystal Koach, Inc., Receipt of Application for Decision of Inconsequential Noncompliance

Krystal Koach, Inc., (Krystal), a California Corporation, dba Krystal Enterprises, has determined that 1,725 Krysal buses produced between June 1996 and November 27, 2001, do not meet the labeling requirements of paragraph S5.3 of Federal Motor Vehicle Safety Standard (FMVSS) No. 120 “Tire Selection and Rims for Motor Vehicles Other than Passenger Cars.” Pursuant to 49 U.S.C. 30118(d) and 30120(h), Krystal has petitioned for a determination that this noncompliance is inconsequential to motor vehicle safety and has filed an appropriate report pursuant to 49 CFR section 573, “Defect and Noncompliance Reports.”

This notice of receipt of an application is published under 49 U.S.C. 30118 and 30120 and does not represent any agency decision or other exercise of judgment concerning the merits of the application.

The tire placard labels affixed to the noncompliant vehicles show vehicle weight and tire inflation pressure values listed in “English” (Pounds, psi) units. They do not list the metric (Kilogram, kPa) equivalent of these values.

Krystal states that this noncompliance is inconsequential because:

(1) The correct information is shown on the label in English units;

(2) Krystal has not received any complaints or inquiries concerning a lack of a Metric equivalent of the subject information on the label;

(3) Krystal is not aware of any safety related incidents related to this noncompliance;

(4) All Krystal buses were sold in countries that predominantly use the English system of units. In fact, Krystal buses were only sold in the U.S. and Canada.

Interested persons are invited to submit written data, views and arguments on the application described above. Comments should refer to the docket number and be submitted to: U.S. Department to Transportation, Docket Management, Room PL-401, 400 Seventh Street, SW., Washington, DC 20590. It is requested that two copies be submitted.

All comments received before the close of business on the closing date indicated below will be considered. The application and supporting materials, and all comments received after the closing date, will also be filed and will be considered to the extent possible. After the Agency has determined that the application will granted or denied, the notice will be published in the Federal Register pursuant to the authority indicated below. Comment closing date: March 21, 2002.

(49 U.S.C. 301118, 301120; delegations of authority at 49 CFR 1.50 and 501.8)
Stephen R. Kratzke,
Associate Administrator for Safety Performance Standards.

[FR Doc. 02-3964 Filed 2-15-02; 8:45 am]

BILLING CODE 4910-59-P